DEPARTMENT OF LABOR

Mine Safety and Health Administration

Mine Rescue Teams and Arrangements for Emergency Medical Assistance and Transportation for Injured Persons at Coal Mines

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Mine Safety and Health Administration (MSHA) is soliciting comments concerning the extension of the information collection related to the 30 CFR Sections 49.12, 49.13, 14.16, 49.17, 49.18, 49.19, 49.50, 75.1713-1(a),(b) and (e), and 77.1702(a), (b), and (e).

DATES: All comments must be received by midnight Eastern Daylight Savings Time on June 14, 2010.

ADDRESSES: Comments must clearly be identified with the rule title and may be submitted to MSHA by any of the following methods:

(1) Electronic mail: zzMSHA-Comments@dol.gov.

(2) Facsimile: (202) 693-9441.

(3) Regular Mail: MSHA, Office of Standards, Regulations, and Variances, 1100 Wilson Blvd., Room 2350, Arlington, VA 22209-3939.

(4) Hand Delivery or Courier: MSHA, Office of Standards, Regulations, and Variances, 1100 Wilson Blvd., Room 2350, Arlington, VA 22209-3939. Sign in at the receptionist's desk on the 21st floor.

FOR FURTHER INFORMATION CONTACT: Mario Distasio, Chief of the Economic Analysis Division, Office of Standards Regulations, and Variances, MSHA, at distasio.mario@dol.gov (e-mail), 202-693-9445 (voicemail), 202-693-9441 (facsimile).

SUPPLEMENTARY INFORMATION:

I. Background

MSHA published a final rule revising the Agency's requirements for mine rescue teams for underground coal mines on February 8, 2008.

The United Mine Workers of America challenged the final rule in the U.S. Court of Appeals for the District of Columbia Circuit (Court). On February 10, 2009, the Court vacated several of the rule's provisions. Consistent with the Court's decision, MSHA revised its requirements for mine rescue teams for underground coal mines on June 17, 2009. The 2008 mine rescue team standard and 2009 revision added burden to existing information collection requirements and imposed two new information collection requirements.

MSHA last submitted paperwork package 1219-0144 to OMB in May 2009, under the emergency review procedures in 5 CFR 1320.13.

Section 4 of the Mine Improvement and New Emergency Response (MINER) Act of 2006 required MSHA to promulgate standards for mine rescue teams for underground coal mines. The May 2009 paperwork package 1219-0144 addressed only the increased burden associated with the revised and new standards and did not include the information collection burden for the existing mine rescue team standard not addressed by the MINER Act, which had been approved under paperwork package 1219-0078 for both coal and metal and nonmetal mines. This paperwork package 1219-0144 combines the additional burden from the revised and new standards for underground coal mine rescue teams with the existing information collection burden, which has been removed from paperwork package 1219-0078. (The metal and nonmetal mine rescue team paperwork package, OMB control number 1219-0078, has been extended to February 28, 2013, ICR reference number 200912-1219-003.)

This package covers the following requirements for coal mines:

• Each operator of a coal mine who provides rescue teams is required to send the District Manager a statement describing the mine's method of compliance with the standard.

• Small or remote mines may submit an application of an arrangement for alternative mine rescue capability to MSHA for approval.

• A person trained in the use and care of the breathing apparatus is required to certify by signature and date that the required inspections and tests were done, take corrective action if indicated, and record any corrective action taken.

• Each member of a mine rescue team must be examined annually by a physician who must certify that each person is physically fit to perform mine rescue and recovery work.

• A record of the training received by each mine rescue team member in the use, care, and maintenance of the type of breathing apparatus that will be used by the mine rescue team must be made and kept on file at the mine rescue station for a period of one year. The operator must provide the District Manager information concerning the schedule of upcoming training when requested.

• Each mine must have a mine rescue notification plan outlining the procedures to be followed in notifying the mine rescue teams when there is an emergency that requires their services.

• Underground coal mine operators must certify that each designated coal mine rescue team meets the requirements of 30 CFR part 49 subpart B.

• Coal mine operators must make arrangements for 24-hour emergency medical assistance and transportation for injured persons and to post this information at appropriate places at the mine, including the names, titles, addresses, and telephone numbers of all persons or services currently available under those arrangements.

II. Desired Focus of Comments

MSHA is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed in the FOR FURTHER INFORMATION CONTACT section of this notice, or viewed on the Internet by “Rules & Reg”, and then selecting “FedReg.Docs”.

On the next screen, select “Paperwork Reduction Act Supporting Statement” to view documents supporting the Federal Register Notice.

III. Current Actions

This request for collection of information contains notification and recordkeeping provisions Mine Rescue Teams and Arrangements for Emergency Medical Assistance and Transportation for Injured Persons at Coal Mines. MSHA does not intend to publish the results of this information collection and is not seeking approval to not display the expiration date or OMB approval number for this collection of information.

There are no certification exceptions identified with this information collection and the collection of this information does not employ statistical methods.

Type of Review: Renewal.

Agency: Mine Safety and Health Administration.

Title: Mine Rescue Teams, Arrangements for Emergency Medical Assistance and Transportation for Injured Persons; Agreements; Reporting Requirements; Posting Requirements and for Coal Mine Operators.

OMB Number: 1219-0144.

Frequency: On Occasion.

Affected Public: Business or other for-profit.

Cost to Federal Government: 25,108.

Total Burden Respondents: 2,055.

Total Number of Responses: 24,767.

Total Burden Hours: 5,181.

Total Hour Burden Cost (operating/maintaining): $863,397.

Comments submitted in response to this notice will be summarized and/or included in the request for Office of Management and Budget approval of the information collection request; they will also become a matter of public record.

Dated: April 7, 2010.
Patricia W. Silvey,
Director, Office of Standards, Regulations and Variances.

[FR Doc. 2010-8356 Filed 4-12-10; 8:45 am]

BILLING CODE 4510-43-P